DEPARTMENT OF VETERANS AFFAIRS

[OMB Control No. 2900-New]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before September 6, 2002.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-New.”

Send comments and recommendations concerning any aspect of the information collection to VA's OMB Desk Officer, OMB Human Resources and Housing Branch, New Executive Office Building, Room 10235, Washington, DC 20503 (202) 395-7316. Please refer to “OMB Control No. 2900-New” in any correspondence.

SUPPLEMENTARY INFORMATION: Titles:

a. Credentials Transfer Brief, VA Form 10-0376a.

b. Credentials Supplemental Questions, VA Form 10-0376b.

OMB Control Number: 2900-New.

Type of Review: New Collection.

Abstract: Currently VHA requires that credentialing occur prior to extension of initial employment offers to health care providers. The credentialing occurs upon employment, transfer, or at the time of initiating practice at a new site. Although credentialing may have been completed by one VHA facility, policy requires that the credentialing process be repeated by the receiving facility. VA Form 10-0376a improves the efficiencies of this process by facilitating the sharing of already verified health care provider's credential data between facilities and decreases the potential for duplication of efforts.

An agency may not conduct or sponsor, and a person is not required to respond to a collection of information unless it displays a currently valid OMB control number. The Federal Register Notice with a 60-day comment period soliciting comments on this collection of information was published on April 15, 2002, at pages 18306-18307.

Affected Public: Not-for-profit Institutions; Business or other; and State, Local or Tribal governments.

Estimated Annual Burden: 6,750 hours.

a. Credentials Transfer Brief, VA Form 10-0376a—500 hours.

b. Credentials Supplemental Questions, VA Form 10-0376b—6,250 hours.

Estimated Average Burden Per Respondent: 11 minutes.

a. Credentials Transfer Brief, VA Form 10-0376a—60 minutes.

b. Credentials Supplemental Questions, VA Form 10-0376b—15 minutes.

Frequency of Response: One time.

Estimated Number of Respondents: 25,500.

a. Credentials Transfer Brief, VA Form 10-0376a—500.

b. Credentials Supplemental Questions, VA Form 10-0376b-25,000.

Dated: July 25, 2002.
By Direction of the Secretary.
Genie McCully,
Acting Director, Information Management Service.

[FR Doc. 02-19948 Filed 8-6-02; 8:45 am]

BILLING CODE 8320-01-P